DEPARTMENT OF THE INTERIOR

Bureau of Land Management

[LLCOS08000.L71220000.EU0000.LVTFCX5C6400.15X; COC-76543]

Notice of Realty Action: Direct Sale of Public Lands in Mesa County, CO

AGENCY: Bureau of Land Management, Interior.

ACTION: Notice of realty action.

SUMMARY: The Bureau of Land Management (BLM) is proposing a noncompetitive (direct) sale of 48.53 acres of public land in Mesa County, Colorado, to Merial I. Currier of Currier Gravel Pit Inc., to resolve an inadvertent and unauthorized use of public lands. The sale would be subject to applicable provisions of Section 203 of the Federal Land Policy and Management Act of 1976, as amended (FLPMA), and BLM land sale regulations. The proponent would purchase the parcel for the appraised fair market value of the land, which is $80,000.

DATES: Submit written comments regarding this direct sale by March 31, 2022.

ADDRESSES: Mail written comments to Greg Wolfgang, Field Manager, BLM, Grand Junction Field Office, 2815 H Road, Grand Junction, CO 81506 or by email to BLM_CO_GJ_Public_Comments@blm.gov.

FOR FURTHER INFORMATION CONTACT: Ashton Johnston, Realty Specialist, by email to ajohnston@blm.gov or by phone to (970) 244-3028. Persons who use a telecommunications device for the deaf (TDD) may call the Federal Relay Services (FRS) at (800) 877-8339 during normal business hours to contact Ashton Johnston. The FRS is available 24 hours a day, 7 days a week, to leave a message or question. You will receive a reply during normal business hours.

SUPPLEMENTARY INFORMATION: In accordance with 43 CFR 2720.0-6, only the surface estate of the lands would be conveyed in the sale, and the United States would retain the mineral estate, including sand and gravel resources. The BLM will consider a direct sale of the following described lands in accordance with Section 203 of FLPMA (43 U.S.C. 1713):

Sixth Principal Meridian, Colorado

T. 9 S., R. 93 W.,

Sec. 12, lots 1 and 2.

The area aggregates 48.53 acres.

The sale conforms to the BLM Grand Junction Resource Management Plan (RMP), approved August 2015. The lands are identified as appropriate for disposal based on the following criterion stated on pages 174-175 of the RMP under Lands & Realty Allowable Use 7: “Isolated parcels that are small or so located as to make effective and efficient management impractical.”

The BLM considered the criteria for disposal found in Sec. 203(a)(1) of FLPMA, which states that “such tract because of its location or other characteristics is difficult and uneconomic to manage as part of the public lands and is not suitable for management by another Federal department or agency.” The lands were determined to be suitable for direct sale consistent with 43 CFR 2711.3-3(a)(4), which states that “The adjoining ownership pattern and access indicate a direct sale is appropriate.”

In conformance with the National Environmental Policy Act, the BLM prepared a site-specific Environmental Assessment (EA) (DOI-BLM-CO-S080-2018-0001-EA) for this proposed action, available online at https://go.usa.gov/xw8yk. Based on the EA, the BLM issued a Finding of No Significant Impact and Decision Record on January 7, 2020, to conduct the sale of the lands. Publication of this notice in the Federal Register will segregate the earlier-described lands from all forms of appropriation under the public land laws, including the mining laws, except for the sale under Section 203 of the FLPMA. The segregation will terminate automatically upon issuance of a patent or on February 14, 2024, whichever occurs first.

If issued, the patent will include the following terms, covenants, conditions, and reservations:

1. A mineral reservation to the United States for all minerals;

2. A reservation to the United States for ditches and canals constructed by authority of the United States under the Act of August 30, 1890 (43 U.S.C. 945);

3. Valid existing rights of record;

4. An appropriate indemnification clause protecting the United States from claims arising out of the patentee's use, occupancy, or operations on the patented lands; and

5. Additional terms and conditions that the authorized officer deems appropriate.

The EA, appraisal, maps, and Environmental Site Assessment are available for review during business hours Monday through Friday at the Grand Junction Field Office, except during federally recognized holidays. Interested parties may submit written comments concerning the sale, including notification of any encumbrances or other claims related to the parcels, by either of the methods identified in the ADDRESSES section earlier.

The BLM Colorado State Director or other authorized official of the Department of the Interior (DOI) will review adverse comments regarding the sale of the parcels and may sustain, vacate, or modify this realty action in whole or in part. In the absence of timely objections, this realty action will become DOI's final determination.

In addition to publication in the Federal Register, the BLM will publish this notice in the Grand Junction Daily Sentinel newspaper once a week for 3 consecutive weeks.

Before including your address, phone number, email address, or other personal identifying information in your comment, you should be aware that your entire comment, including your personal identifying information, may be made publicly available at any time. While you can ask us in your comment to withhold your personal identifying information from public review, we cannot guarantee that we will be able to do so.

(Authority: 43 CFR 2711.1-2.)

Stephanie Connolly,
Acting BLM Colorado State Director.

[FR Doc. 2022-03015 Filed 2-11-22; 8:45 am]

BILLING CODE 4310-JB-P